DEPARTMENT OF TRANSPORTATION

Pipeline and Hazardous Materials Safety Administration

[Docket No. PHMSA-2018-0008]

Pipeline Safety: Information Collection Activities

AGENCY: Pipeline and Hazardous Materials Safety Administration, DOT.

ACTION: Notice and request for comments.

SUMMARY: On February 12, 2018, in accordance with the Paperwork Reduction Act of 1995, the Pipeline and Hazardous Materials Safety Administration (PHMSA) published a notice in the Federal Register (83 FR 6088) inviting comments on the information collection identified by OMB control number 2137-0049 that expires on April 30, 2018. PHMSA is requesting an extension with no change for this information collection.

During the public comment period, PHMSA received no comments in response to the information collection. PHMSA received six comments that did not pertain to the information collection request. PHMSA is publishing this notice to provide the public with an additional 30 days to comment on the renewal of the information collection referenced above and to announce that the Information Collection Request will be submitted to OMB for approval.

DATES: Interested persons are invited to submit comments on or before May 23, 2018 to be assured of consideration.

FOR FURTHER INFORMATION CONTACT: Angela Dow by telephone at 202-366-1246, by email at angela.dow@dot.gov, by fax at 202-366-4566, or by mail at U.S. Department of Transportation, PHMSA, 1200 New Jersey Avenue SE, PHP-30, Washington, DC 20590-0001.

ADDRESSES: You may submit comments identified by the docket number PHMSA-2018-0008 by any of the following methods:

• Fax: 1-202-395-5806.

• Mail: Office of Information and Regulatory Affairs, Records Management Center, Room 10102 NEOB, 725 17th Street NW, Washington, DC 20503, ATTN: Desk Officer for the U.S. Department of Transportation\PHMSA.

• Email: Office of Information and Regulatory Affairs, OMB, at the following email address: OIRA_Submission@omb.eop.gov.

Requests for a copy of the Information Collection should be directed to Angela Dow by telephone at 202-366-1246, by fax at 202-366-4566, by email at angela.dow@dot.gov, or by mail at U.S. Department of Transportation, PHMSA, 1200 New Jersey Avenue SE, PHP-30, Washington, DC 20590-0001.

SUPPLEMENTARY INFORMATION: Section 1320.8(d), Title 5, Code of Federal Regulations, requires PHMSA to provide interested members of the public and affected agencies an opportunity to comment on information collection and recordkeeping requests. This notice identifies an information collection request that PHMSA will submit to OMB for renewal. The following information is provided for this information collection: (1) Title of the information collection; (2) OMB control number; (3) Current expiration date; (4) Type of request; (5) Abstract of the information collection activity; (6) Description of affected public; (7) Estimate of total annual reporting and recordkeeping burden; and (8) Frequency of collection. PHMSA will request a three-year term of approval for this information collection activity. PHMSA requests comments on the following information collection:

1. Title: Recordkeeping Requirements for Gas Pipeline Operators.

OMB Control Number: 2137-0049.

Current Expiration Date: 4/30/2018.

Type of Request: Renewal of a currently approved information collection.

Abstract: A person owning or operating a natural gas pipeline facility is required to maintain records, make reports, and provide information to the Secretary of Transportation at the Secretary's request.

Affected Public: Owners and Operators of natural gas pipeline facilities.

Annual Reporting and Recordkeeping Burden:

Estimated number of responses: 12,300.

Estimated annual burden hours: 940,454.

Frequency of collection: On occasion.

Comments are invited on:

(a) The need for the renewal of this collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC, on April 17, 2018, under authority delegated in 49 CFR 1.97.
John A. Gale,
Director, Standards and Rulemaking Division.

[FR Doc. 2018-08365 Filed 4-20-18; 8:45 am]

BILLING CODE 4910-60-P